NUCLEAR REGULATORY COMMISSION

[Docket Nos. 50-277 and 50-278; NRC-2018-0130]

Exelon Generation Company, LLC; Peach Bottom Atomic Power Station, Units 2 and 3

AGENCY: Nuclear Regulatory Commission.

ACTION: Final supplemental environmental impact statement.

SUMMARY: The U.S. Nuclear Regulatory Commission (NRC) has published a final plant-specific supplement, Supplement 10, Second Renewal, to the Generic Environmental Impact Statement (GEIS) for License Renewal of Nuclear Plants, NUREG-1437, regarding the subsequent renewal of Facility Operating License Nos. DPR-44 and DPR-56 for an additional 20 years of operation for Peach Bottom Atomic Power Station, Units 2 and 3, respectively (Peach Bottom). Peach Bottom is located in York County, Pennsylvania.

DATES: The final Supplement 10, Second Renewal to the GEIS is available as of January 24, 2020.

ADDRESSES: Please refer to Docket ID NRC-2018-0130 when contacting the NRC about the availability of information regarding this document. You may obtain publicly-available information related to this document using any of the following methods:

• Federal Rulemaking website: Go to https://www.regulations.gov/ and search for Docket ID NRC-2018-0130. Address questions about NRC docket IDs in Regulations.gov to Jennifer Borges; telephone: 301-287-9127; email: Jennifer.Borges@nrc.gov. For technical questions contact the individual listed in the FOR FURTHER INFORMATION CONTACT section of this document.

• NRC's Agencywide Documents Access and Management System (ADAMS): You may access publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The final Supplement 10, Second Renewal is available in ADAMS under Accession No. ML20023A937.

• NRC's PDR: You may examine and purchase copies of public documents at the NRC's PDR, Room O1-F21, One White Flint North, 11555 Rockville Pike, Rockville, Maryland 20852.

• Library: A copy of the final Supplement 10, Second Renewal to the GEIS for License Renewal of Nuclear Plants, NUREG-1437, is available at the Hartford County Public Library, Whiteford Branch, 2407 Whiteford Road, Whiteford, MD 21160.

FOR FURTHER INFORMATION CONTACT: Lois M. James, Office of Nuclear Material Safety and Safeguards, U.S. Nuclear Regulatory Commission, Washington, DC 20555-0001; telephone: 301-415-3306, email: Lois.James@nrc.gov.

SUPPLEMENTARY INFORMATION:

I. Background

In accordance with section 51.118 of title 10 of the Code of Federal Regulations (10 CFR), the NRC is making available final Supplement 10, Second Renewal to NUREG-1437, regarding the renewal of Exelon Generation Company, LLC. (Exelon), operating licenses DPR-44 and DPR-56 for an additional 20 years of operation for Peach Bottom Atomic Power Station, Units 2 and 3 (Peach Bottom). A Notice of Availability of Draft Supplement 10, Second Renewal to NUREG-1437 was published in the Federal Register on August 9, 2019 (84 FR 39296), by the Environmental Protection Agency. The public comment period on draft Supplement 10, Second Renewal to NUREG-1437 ended on September 23, 2019, and the comments received are addressed in final Supplement 10, Second Renewal to NUREG-1437.

II. Discussion

As discussed in Chapter 5 of final Supplement 10, Second Renewal to NUREG-1437, the NRC staff determined that the adverse environmental impacts of subsequent license renewal for Peach Bottom are not so great that preserving the option of subsequent license renewal for energy-planning decisionmakers would be unreasonable. This recommendation is based on: (1) The analysis and findings in the GEIS; (2) information provided in the environmental report and other documents submitted by Exelon; (3) consultation with Federal, State, local, and Tribal agencies; (4) the NRC staff's independent environmental review; and (5) consideration of public comments received during the scoping process and on the Draft Supplemental Environmental Impact Statement.

Dated at Rockville, Maryland, this 27th day of January, 2020.
For the Nuclear Regulatory Commission.
Robert B. Elliott,
Chief, Environmental Review License Renewal Branch, Division of Rulemaking, Environmental, and Financial Support, Office of Nuclear Material Safety and Safeguards.

[FR Doc. 2020-01769 Filed 1-30-20; 8:45 am]

BILLING CODE 7590-01-P